NUCLEAR REGULATORY COMMISSION

[Docket No. 50-029]

Yankee Atomic Electric Company, Yankee Nuclear Power Station (ROWE); Exemption

1.0 Background

The Yankee Atomic Electric Company (YAEC or the licensee) is the holder of Possession Only License No. DPR-3, which authorizes possession and maintenance of the Yankee Nuclear Power Station (YNPS or plant). The license provides, among other things, that the facility is subject to all rules, regulations, and orders of the U.S. Nuclear Regulatory Commission (NRC or the Commission) now or hereafter in effect. The facility is a permanently shutdown pressurized-water reactor (PWR) currently in the process of decommissioning and is located on the licensee's site in Franklin County, Massachusetts.

On February 27, 1992, the licensee submitted written certifications to the Commission that it had decided to permanently cease operations at YNPS and that all fuel had been permanently removed from the reactor. The NRC in a license amendment dated August 5, 1992, modified License No. DPR-3 to a Possession Only License (POL). The license is conditioned so that YAEC is not authorized to operate the reactor and fuel may not be placed in the reactor vessel, thus formalizing the YAEC commitment to permanently cease power operations. The YNPS spent nuclear fuel is currently being stored in the spent fuel pool, which is protected by a physical protection system meeting the requirements of 10 CFR 73.55, “Requirements for physical protection of licensed activities in nuclear power reactors against radiological sabotage,” with exemptions as previously issued by the NRC. To complete the plant site decommissioning process, the spent fuel will be removed from the spent fuel pool and transferred to an onsite independent spent fuel storage installation (ISFSI) for interim storage.

Pursuant to 10 CFR part 72, “Licensing Requirements for the Independent Storage of Spent Nuclear Fuel and High-Level Radioactive Waste,” an ISFSI may be licensed either under a general or a specific license. Under a general license, a licensee can construct and operate an ISFSI in accordance with the requirements of 10 CFR 72.212, “Conditions of general license issued under § 72.210 [,”General license issued”],” without staff approval. Pursuant to 10 CFR 72.212(b)(5), a licensee must protect the spent fuel at the ISFSI against the design basis threat (DBT) of radiological sabotage in accordance with the same provisions and requirements as are set forth in the licensee's 10 CFR 73.55 physical security plan, with additional conditions and exceptions.

Alternatively, an ISFSI can be constructed under a 10 CFR part 72 specific license, which requires a licensee to develop a detailed security plan in accordance with 10 CFR 73.51, “Requirements for the physical protection of stored spent nuclear fuel and high-level radioactive waste.” The design objective of 10 CFR 73.51 is to protect against a loss of control of the facility that could be sufficient to cause radiation exposure exceeding the dose as described in 10 CFR 72.106, “Controlled area of an ISFSI or MRS (monitored retrievable storage).”

In an August 21, 2000, Federal Register notice (65 FR 50606), the Commission clarified portions of 10 CFR part 72, stating that the requirements of 10 CFR 72.106 apply to ISFSIs with either general or specific licenses. The offsite dose limits of 10 CFR 72.106 are defined such that any individual on or beyond the nearest boundary of the controlled area may not receive from any design basis accident the more limiting of a total effective dose equivalent of 0.05 Sv (5 rem) or the sum of the deep-dose equivalent and the committed dose equivalent to any individual organ or tissue of 0.5 Sv (50 rem).

2.0 Request

Pursuant to 10 CFR 72.212(b)(5), licensees who store their spent fuel under the provisions of 10 CFR part 72, subpart K, “General License for Storage of Spent Fuel at Power Reactor Sites,” as YAEC proposes to do, are required to “Protect the spent fuel against the design basis threat of radiological sabotage in accordance with the same provisions and requirements as are set forth * * * ” in 10 CFR 73.55.

By letter dated September 28, 2000, as supplemented by letters dated October 12, 2000, April 18, 2001, May 29, 2001, June 28, 2001, and March 4, 2002, the licensee requested an exemption from certain requirements of 10 CFR 73.55. YAEC proposed alternative approaches to meet the provisions of portions of 10 CFR 73.55(b) through (h) related to the security organization, physical barriers, access requirements, detection aids, communications, and response requirements. By this same correspondence, the licensee also requested a license amendment that would revise Facility Operating License No. DPR-3 to reference the revisions of the Physical Security Plan, Guard Training and Qualification Plan, and Safeguards Contingency Plan, and made available a copy of the YAEC plans to assist the staff in its review of the exemption and amendment requests.

3.0 Discussion

Pursuant to 10 CFR 72.7, “Specific exemptions,” and 10 CFR 73.5, “Specific exemptions,” the Commission may, upon application by any interested person or upon its own initiative, grant exemptions from the requirements of the regulations that it determines are authorized by law and will not endanger life or property or the common defense and security and are otherwise in the public interest. Pursuant to 10 CFR 73.55(a), the Commission may authorize a licensee to provide measures for protection against radiological sabotage other than those specified in the regulations if the licensee demonstrates that the measures have the same high assurance objective as specified in 10 CFR 73.55(a) and that the overall level of system performance provides protection against radiological sabotage equivalent to that which could be provided by paragraphs (b) through (h) of 10 CFR 73.55.

The staff has reviewed the proposed YAEC ISFSI and Fuel in Transit (FIT) Physical Protection Programs against the requirements of each section of 10 CFR 73.55 to determine whether the alternative measures that YAEC proposed should be authorized pursuant to 10 CFR 73.55(a), or whether specific exemptions should be granted from the requirements of these regulations. As part of its review, the staff evaluated the offsite dose that would result from unimpeded access by the DBT of radiological sabotage without protracted loss of control of the facility. On the basis of YAEC's plan in the ISFSI Physical Protection Program to maintain the boundary of its controlled area at a minimum of 300 meters from the dry cask storage installation and provisions in the ISFSI Physical Protection Program that provide the capability to summon off-site local law-enforcement agency response forces to preclude a protracted loss of control of the facility, the staff concluded that the DBT of radiological sabotage would result in an offsite dose well below the 10 CFR 72.106(b) limits. The staff therefore concluded that the alternative measures proposed by YAEC are authorized pursuant to 10 CFR 73.55(a), with one exception. With regard to the requirements of 10 CFR 73.55(d)(5), the staff concluded that the measures proposed by YAEC did not meet the criteria of 10 CFR 73.55(a) to be authorized as alternative measures. However, the staff concluded that pursuant to 10 CFR 72.7 and 10 CFR 73.5, the proposed alternatives to the requirements of 10 CFR 73.55(d)(5) that YAEC requested could be granted as an exemption. A detailed discussion of the staff's evaluation is contained in the safety evaluation supporting these findings dated March 13, 2002, which safeguards information in accordance with 10 CFR 73.21 and therefore, is not available to the public.

4.0 Conclusion

Accordingly, the Commission has determined that, pursuant to 10 CFR 72.7 and 10 CFR 73.5, exemption from the requirements of 10 CFR 73.55(d)(5) related to access requirements is authorized by law, will not endanger life or property or the common defense and security, and are otherwise in the public interest.

Pursuant to 10 CFR 51.32, “Finding of no significant impact,” the Commission has previously determined that the granting of this exemption will not have a significant effect on the quality of the human environment (66 FR 48720, dated September 21, 2001).

This exemption is effective upon issuance.

Dated at Rockville, Maryland, this 13th day of March 2002.
For the Nuclear Regulatory Commission.
John A. Zwolinski,
Director, Division of Licensing Project Management, Office of Nuclear Reactor Regulation.

[FR Doc. 02-6814 Filed 3-20-02; 8:45 am]

BILLING CODE 7590-01-P